DEPARTMENT OF COMMERCE

National Oceanic and Atmospheric Administration

RIN 0648-XE438

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Scientific and Statistical Committee (SSC) to review methods for determining the recreational annual catch limit (ACL) in numbers for the Florida Keys/East Florida (FLK/EFL) Hogfish stock.

DATES: The SSC meeting will be held via webinar on Friday, March 4, 2016, from 9 a.m. to 12 p.m.

ADDRESSES: The meeting will be held via webinar. The webinar is open to members of the public. Those interested in participating should contact John Carmichael at the Council (see FOR FURTHER INFORMATION CONTACT) to request an invitation providing webinar access information. Please request webinar invitations at least 24 hours in advance of the webinar.

Council address: South Atlantic Fishery Management Council, 4055 Faber Place Drive, Suite 201, N. Charleston, SC 29405.

FOR FURTHER INFORMATION CONTACT: John Carmichael; 4055 Faber Place Drive, Suite 201, North Charleston, SC 29405; phone: (843) 571-4366 or toll free (866) SAFMC-10; fax: (843) 769-4520; email: john.carmichael@safmc.net.

SUPPLEMENTARY INFORMATION: This meeting is held to review proposed methods for calculating the recreational ACL of FLK/EFL Hogfish in numbers of fish. The Council stated at their September 2015 meeting in Hilton Head, SC that they would like the recreational ACL for the FLK/EFL stock of Hogfish to be set in numbers rather than in pounds. Items to be addressed during this meeting:

Review and comment on the risks and uncertainties associated with proposed methods for calculating the recreational ACL of the FLK/EFL Hogfish stock in numbers. The SSC will provide recommendations for Council consideration as appropriate.

Special Accommodations

The meeting is physically accessible to people with disabilities. Requests for sign language interpretation or other auxiliary aids should be directed to the Council office (see ADDRESSES) at least 10 business days prior to the meeting.

Note: The times and sequence specified in this agenda are subject to change.

Authority: 16 U.S.C. 1801 et seq.

Dated: February 10, 2016.
Tracey L. Thompson,
Acting Deputy Director, Office of Sustainable Fisheries, National Marine Fisheries Service.

[FR Doc. 2016-03050 Filed 2-12-16; 8:45 am]

BILLING CODE 3510-22-P